DEPARTMENT OF ENERGY

Federal Energy Regulatory Commission

Florida Gas Transmission Company, LLC, et al.; Notice of Onsite Environmental Review

October 7, 2009.

Florida Gas Transmission Company, LLC | Docket No. CP09-455-000.
Florida Gas Transmission Company, LLC and Transcontinental Gas Pipe Line Company, LLC | Docket No. CP09-456-000.

On October 21, 2009, the Office of Energy Projects staff will be in Jackson County, Mississippi and Mobile County, Alabama to gather data related to the environmental analysis of the proposed Mobile Bay Lateral Extension Project and the Pascagoula Expansion Project. Staff will examine locations along the proposed pipeline routes filed by Florida Gas Transmission Company, LLC and Transcontinental Gas Pipe Line Company, LLC focusing on where the pipelines would cross residential areas in Jackson County, Mississippi; Mobile County, Alabama; and a residence on Rainbow Lake Road, Grand Bay, Alabama. This will assist staff in completing its evaluation of environmental impacts of the two projects.

All interested parties planning to attend must provide their own transportation. Those attending should meet at the following location:

Wednesday October 21, 2009 at 1 p.m. (CST):

Holiday Inn Express Moss Point parking lot, 4800 Amoco Drive, Moss Point, MS 39563.

Please use the FERC's free eSubscription service to keep track of all formal issuances and submittals in these dockets. This can reduce the amount of time you spend researching proceedings by automatically providing you with notification of these filings, document summaries, and direct links to the documents. To register for this service, go to http://www.ferc.gov/esubscribenow.htm.

Information about specific onsite environmental reviews is posted on the Commission's calendar at http://www.ferc.gov/EventCalendar/EventsList.aspx. For additional information contact Office of External Affairs at 1-866-208-FERC (3372).

Kimberly D. Bose,
Secretary.

[FR Doc. E9-24803 Filed 10-14-09; 8:45 am]

BILLING CODE 6717-01-P